DEPARTMENT OF THE INTERIOR

National Park Service

Special Resource Study and Environmental Impact Statement, Coltsville, Hartford, CT

AGENCY: National Park Service, Department of the Interior.

ACTION: Notice of Termination of the Environmental Impact Statement for the Coltsville Special Resource Study in Hartford, Connecticut.

SUMMARY: As directed by the US Congress in Public Law 108-94, the National Park Service (NPS) undertook a special resource study (SRS) of the Coltsville Historic District in Hartford, Connecticut. In accordance with NPS policy, the Coltsville SRS was initially undertaken as an Environmental Impact Statement (EIS) process in compliance with the National Environmental Policy Act of 1969, as amended (NEPA). A Notice of Intent to Prepare an EIS was published in the Federal Register on September 4, 2004. The purpose of an SRS is to determine the degree and kind of federal actions that may be desirable for the management and protection of an area considered to have potential for addition to the national park system. The EIS assesses the impacts of the management alternatives examined in the SRS.

The SRS examines a site in terms of:

• National significance of the resources;

• Determination of suitability of the site for inclusion within the national park system in comparison to other protected sites with similar resources or themes;

• Determination of feasibility for the NPS to own, manage or participate in conservation and interpretation in the study area;

• Need for NPS management measured against other alternatives.

This SRS examined the resources in the existing Coltsville Historic District, which preserves the history of precision manufacturing that developed at the Colt Fire Arms Company. All of the elements of the site are located within the City of Hartford, Connecticut. The study team concluded that the Coltsville Historic District NHL meets the criteria for national significance and suitability; however, the study concluded that the site does not meet the feasibility criterion for potential designation as a unit of the national park system. As a result, there is no need for NPS management and, therefore, no federal actions subject to the requirements of NEPA. Thus, the NEPA process has been terminated.

The Coltsville Special Resource Study is available for public review at: http://parkplanning.nps.gov/nero. Public comments were received between November 13 and December 18, 2009. A summary of the public comments is also available at http://parkplanning.nps.gov/nero.

FOR FURTHER INFORMATION CONTACT: James O'Connell, Project Manager, National Park Service, Northeast Region, 15 State Street, Boston, MA 02109.

Michael T. Reynolds,
Acting Regional Director, Northeast Region, National Park Service.

[FR Doc. 2010-12604 Filed 5-25-10; 8:45 am]

BILLING CODE P